DEPARTMENT OF EDUCATION

Centers for Independent Living Program—Training and Technical Assistance

AGENCY: Office of Special Education and Rehabilitative Services, Department of Education.

ACTION: Notice of proposed priority.

Catalog of Federal Domestic Assistance (CFDA) Number: 84.400B.

SUMMARY: The Assistant Secretary for Special Education and Rehabilitative Services proposes a priority under the Centers for Independent Living Program—Training and Technical Assistance (CIL-TA program). The Assistant Secretary may use this priority for competitions in fiscal year (FY) 2010, using American Recovery and Reinvestment Act of 2009 (ARRA) funds appropriated for the Centers for Independent Living program (CIL program) authorized under title VII, chapter 1, part C of the Rehabilitation Act of 1973, as amended (the Act), and competitions in later years. We take this action to improve outcomes for individuals with significant disabilities by enhancing the quality of independent living (IL) services provided to those individuals and the efficiency of the delivery of those services by CILs funded through the CIL program.

DATES: We must receive your comments on or before April 21, 2010.

ADDRESSES: Address all comments about this notice to Sue Rankin-White, U.S. Department of Education, 400 Maryland Avenue, SW., Potomac Center Plaza (PCP), Room 5013, Washington, DC 20202-2800.

If you prefer to send your comments by e-mail, use the following address: sue.rankin-white@ed.gov. You must include the term “CIL-TA program” in the subject line of your electronic message.

FOR FURTHER INFORMATION CONTACT: Sue Rankin-White. Telephone: (202) 245-7312 or e-mail: sue.rankin-white@ed.gov.

If you use a telecommunications device for the deaf (TDD), call, toll free, (866) 889-6737.

SUPPLEMENTARY INFORMATION: Invitation To Comment: We invite you to submit comments regarding this notice.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this notice in room 5013, PCP, 550 12th Street, SW., Washington, DC, between the hours of 8:30 a.m. and 4:00 p.m., Washington, DC time, Monday through Friday of each week except Federal holidays.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the CIL program is to maximize independence, productivity, empowerment, and leadership of individuals with disabilities and integrate these individuals into the mainstream of society.

CILs are consumer-controlled, community-based, cross-disability, nonresidential, private nonprofit agencies that are designed and operated within a local community by individuals with disabilities and provide an array of IL services to individuals with significant disabilities, including the core services of information and referral, IL skills training, peer counseling, and individual and systems advocacy.

Each State has established a Statewide Independent Living Council (SILC) that jointly develops and signs the State Plan for Independent Living with the designated State unit, monitors, reviews, and evaluates the implementation of the State plan, and coordinates activities with the State Rehabilitation Council and other organizations related to issues that affect individuals with disabilities. A majority of a SILC's members are individuals with disabilities. Other members include CIL representatives and State agency representatives, as well as other appropriate individuals.

Through the ARRA, Congress has appropriated $87,500,000 for the CIL program to be obligated by FY 2010. Under section 721(b)(1) of the Act, the Department is required to reserve between 1.8 and 2 percent of the funds appropriated for the CIL program to provide training and technical assistance to CILs, agencies eligible to become CILs, and SILCs with respect to planning, developing, conducting, administering, and evaluating CILs.

Program Authority: 29 U.S.C. 796f(b).

Applicable Program Regulations: 34 CFR part 366.

Proposed Priority

This notice contains one proposed priority.

Centers for Independent Living (CILs) Community-Based Training and Technical Assistance Project

Background: Under the CIL-TA program, the Department currently funds three training and technical assistance grants: one is in its final year and supports training and technical assistance to CILs and SILCs on the issue of service delivery to young people with disabilities as they transition from school to living independently, and two provide general, comprehensive training and technical assistance to CILs and SILCs, respectively.

The training and technical assistance needs of CILs are ongoing and evolve as new centers are funded, and existing centers add and reassign personnel, expand, and change. The Department identifies the training and technical assistance needs of CILs and SILCs through its review of responses to a survey in their annual performance reports and through its monitoring and technical assistance efforts.

Based on this annual survey and on our ongoing monitoring and technical assistance activities, we have determined that a significant proportion of CILs would benefit from training and technical assistance to improve their efforts: to develop strategies to address the needs of underserved populations and underserved geographic areas within the center's service area; to promote community-based alternatives to institutionalization; to assist youths with disabilities in their transition from school to postsecondary education, employment, and IL; and to better serve individuals with disabilities residing in rural areas.

For this reason, we intend to use this priority to award a grant to provide targeted training and technical assistance to CILs on one or more of the following topics:

• Developing Strategies to Address the Needs of Underserved Populations and Underserved Geographic Areas. Although CILs provide IL services to individuals with significant disabilities within a defined geographical area, CILs have acknowledged that often there are barriers to serving certain populations and certain areas within the center's service area. For example, cultural mores of particular ethnic populations may not be supportive of interventions by “outsiders” to provide independent living to individuals with significant disabilities, and, in isolated, rural areas, it may be physically difficult to access the consumers who live in that area in order to provide services. Providing technical assistance to CILs so that they can implement better strategies to overcome barriers and reach out to serve underserved populations and geographic areas will result in centers that are truly community-based and that adequately serve the entire community they were intended to serve.

• Promoting Community-based Alternatives to Institutionalization. CILs play a critical role in assisting individuals with significant disabilities to move from institutional settings to community-based living, or to prevent institutionalization in the first place, by helping these individuals obtain the accessible housing, transportation, assistive technology, and IL skills they need to leave nursing homes and other institutional settings. Providing technical assistance and training in this area and sharing effective practices among CILs will enhance their current efforts to promote community-based alternatives to institutionalization.

• Assisting Transition-age Youths to Live Independently. CILs are working with an increasing number of transition-age youths with significant disabilities exiting secondary schools and entering postsecondary institutions or the labor market. Training and technical assistance in this area will help CILs work collaboratively with the elementary and secondary education system, colleges and universities, employers, and vocational rehabilitation agencies to ensure that transition-age youths with significant disabilities and their families have the information, resources, and services they need to ensure their success as adults.

• Providing IL Services in Rural Settings. Individuals with significant disabilities who need IL services and live in rural settings pose difficult challenges to CILs. For example, it is not unusual in rural States for the CIL's cost of travelling to meet with the consumer to exceed the cost of the services that are eventually provided to that individual. Training and technical assistance in this area will help CILs to utilize efficient outreach practices, including the use of information technology whenever possible, to provide IL services effectively in rural settings.

Proposed Priority: This proposed priority supports a Training and Technical Assistance Project to assist CILs in one or more of the following important and challenging areas: developing strategies to address the needs of underserved populations and underserved geographic areas; promoting community-based alternatives to institutionalization; assisting transition-age youths to succeed after secondary school; and providing IL services in rural settings.

To meet this priority, applicants must demonstrate all of the following in their applications:

(a) Evidence that the project team includes staff members with expertise in each of the priority topic areas on which the applicant is proposing to provide training and technical assistance;

(b) A sound plan for providing training and technical assistance and materials that (1) is based on rigorous research, where available; (2) utilizes a broad range of available, accessible technologies and methodologies; and (3) is sufficient to provide training and technical assistance to as many CILs as possible.

(c) An assurance that the applicant will coordinate and collaborate with other training projects funded by the Department to ensure that its training activities are complementary and non-duplicative and that its dissemination activities are effective and efficient. At a minimum, the Training and Technical Assistance Project must coordinate with RSA's CILs Training and Technical Assistance Center.

Types of Priorities: When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: Under Executive Order 12866, we have assessed the potential costs and benefits of this regulatory action and have determined that it is not “significant” under the terms of that Executive order.

We have determined, also, that this proposed regulatory action does not unduly interfere with State, local, and Tribal governments in the exercise of their governmental functions.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 17, 2010.
Alexa Posny,
Assistant Secretary for Special Education and Rehabilitative Services.

[FR Doc. 2010-6229 Filed 3-19-10; 8:45 am]

BILLING CODE 4000-01-P